DEPARTMENT OF COMMERCE

Foreign-Trade Zones Board

[B-16-2017]

Foreign-Trade Zone (FTZ) 7—Mayaguez, Puerto Rico; Notification of Proposed Production Activity; Bristol-Myers Squibb Holdings Pharma, Ltd.; (Pharmaceuticals); Manati, Puerto Rico

Bristol-Myers Squibb Holdings Pharma, Ltd. (BMS) submitted a notification of proposed production activity to the FTZ Board for its facility in Manati, Puerto Rico within Subzone 7J. The notification conforming to the requirements of the regulations of the FTZ Board (15 CFR 400.22) was received on March 6, 2017.

BMS already has authority to produce certain pharmaceutical products within Subzone 7J. The current request would add finished products and foreign status materials/components to the scope of authority. Pursuant to 15 CFR 400.14(b), additional FTZ authority would be limited to the specific foreign-status materials/components and specific finished products described in the submitted notification (as described below) and subsequently authorized by the FTZ Board.

Production under FTZ procedures could exempt BMS from customs duty payments on the foreign-status materials/components used in export production. On its domestic sales, BMS would be able to choose the duty rates during customs entry procedures that apply to: Antisera; blood fractions; peptides and proteins; Orencia® (and other abatacept-containing products); Opdivo® (and other nivolumab-containing products); Yervoy® (and other ipilimumab-containing products); Empliciti™ (and other elotuzumab-containing products); Nulojix® (and other belatacept-containing products); antineoplastic medicaments; and, immunosuppressive medicaments (duty-free) for the foreign-status materials/components noted below and in the existing scope of authority. Customs duties also could possibly be deferred or reduced on foreign-status production equipment.

The materials/components sourced from abroad include: Antisera; blood fractions; peptides and proteins; abatacept; belatacept; elotuzumab; ipilimumab; nivolumab; ferments; whole human blood; antiallergenic preparations; antineoplastic medicaments; and, immunosuppressive medicaments (duty-free).

Public comment is invited from interested parties. Submissions shall be addressed to the Board's Executive Secretary at the address below. The closing period for their receipt is April 24, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Wedderburn at Chris.Wedderburn@trade.gov or (202) 482-1963.

Dated: March 8, 2017.
Andrew McGilvray,
Executive Secretary.

[FR Doc. 2017-04972 Filed 3-13-17; 8:45 am]

BILLING CODE 3510-DS-P